DEPARTMENT OF COMMERCE

Foreign-Trade Zones Board

[B-02-2022]

Foreign-Trade Zone 26—Atlanta, Georgia Application for Production Authority OFS Fitel, LLC (Optical Fiber Products) Carrollton, Georgia

An application has been submitted to the Foreign-Trade Zones (FTZ) Board by Georgia Foreign-Trade Zone, Inc., grantee of FTZ 26, requesting production authority on behalf of OFS Fitel, LLC (OFS Fitel), located in Carrollton, Georgia. The application conforming to the requirements of the regulations of the FTZ Board (15 CFR 400.23) was docketed on January 20, 2022. The benefits that may stem from conducting production activity under FTZ procedures are explained in the background section of the FTZ Board's website—accessible via www.trade.gov/ftz.

The OFS Fitel facility (518 employees, 44.49 acres) is located within Site 40 of FTZ 26. The facility is used for the production of optical fiber products. In 2020, OFS Fitel requested production authority in a notification proceeding (15 CFR 400.22 and 400.37). After an initial review, the requested production authority was approved subject to restrictions that included a requirement that optical fiber and optical bundles be admitted to the zone in privileged foreign (PF) status (19 CFR 146.41), precluding inverted tariff benefits on those inputs (see B-59-2020, 85 FR 61719-61720, September 30, 2020). The pending application proposes to remove that restriction—which would allow OFS Fitel to choose the duty rates during customs entry procedures that apply to optical fiber cable (duty-free) and optical fibers/bundles/ribbon (duty rate, 6.7%) for the following foreign-status materials/components (representing an average 27% of the value of the finished product): Drawn optical fiber and drawn optical fiber bundles (duty rate, 6.7%). The request indicates that those materials/components are subject to special duties under Section 301 of the Trade Act of 1974 (Section 301), depending on the country of origin. The applicable Section 301 decisions require subject merchandise to be admitted to FTZs in privileged foreign status.

In accordance with the FTZ Board's regulations, Diane Finver of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is March 28, 2022. Rebuttal comments in response to material submitted during the foregoing period may be submitted during the subsequent 15-day period to April 12, 2022.

A copy of the application will be available for public inspection in the “Online FTZ Information Section” section of the FTZ Board's website, which is accessible via www.trade.gov/ftz.

For further information, contact Diane Finver at Diane.Finver@trade.gov.
Dated: January 21, 2022.
Andrew McGilvray,
Executive Secretary.

[FR Doc. 2022-01543 Filed 1-26-22; 8:45 am]

BILLING CODE 3510-DS-P